UNITED STATES INSTITUTE OF PEACE

Notice of Meeting

AGENCY: United States Institute of Peace.

DATE/TIME: Thursday, March 21, 2002; 9 a.m.-5 p.m.

LOCATION: 1200 17th Street, NW, Suite 200, Washington, DC 20036.

STATUS: Open Session—Portions may be closed pursuant to Subsection (c) of Section 552(b) of Title 5, United States Code, as provided in subsection 1706(h)(3) of the United States Institute of Peace Act, Public Law 98-525.

AGENDA: March 2002 Board Meeting; Approval of Minutes of the One Hundred Third Meeting (January 24, 2002) of the Board of Directors; Chairman's Report; President's Report; Committee Reports; Consideration of fellowship applications and consideration of list of recommended Grants; Other General Issues.

CONTACT: Dr. Sheryl Brown, Director, Office of Communications, Telephone: (202) 457-1700.

Dated: March 4, 2002.
Harriet Hentges,
Executive Vice President, United States Institute of Peace.

[FR Doc. 02-5692 Filed 3-5-02; 4:30 pm]

BILLING CODE 6820-AR-M